DEPARTMENT OF EDUCATION

Proposed Priorities—American Overseas Research Centers Program; CFDA Number 84.274A

AGENCY: Office of Postsecondary Education, Department of Education.

ACTION: Notice.

SUMMARY: The Assistant Secretary for Postsecondary Education proposes priorities and definitions for the American Overseas Research Centers (AORC) Program. The Assistant Secretary may use one or more of these priorities and definitions for competitions in fiscal year (FY) 2012 and later years. We intend these priorities and definitions to result in a wider spectrum of institutions being represented in the AORC consortia and to provide overseas professional development opportunities to U.S. postgraduate researchers, visiting scholars, and faculty from institutions that are traditionally underrepresented in this program.

DATES: We must receive your comments on or before June 14, 2012.

ADDRESSES: Address all comments about this notice to Cheryl E. Gibbs, U.S. Department of Education, 1990 K Street NW., Room 6083, Washington, DC 20006-8521.

If you prefer to send your comments by email, use the following address: cheryl.gibbs@ed.gov. You must include the term “AORC Proposed Priorities” in the subject line of your electronic message.

FOR FURTHER INFORMATION CONTACT: Cheryl E. Gibbs. Telephone: (202) 502-7634 or by email: cheryl.gibbs@ed.gov.

If you use a telecommunications device for the deaf (TDD) or a text telephone (TTY), call the Federal Relay Service (FRS), toll free, at 1-800-877-8339.

SUPPLEMENTARY INFORMATION: Invitation to Comment: We invite you to submit comments regarding this notice. To ensure that your comments have maximum effect in developing the notice of final priorities, we urge you to identify clearly the specific proposed priority that each comment addresses.

We invite you to assist us in complying with the specific requirements of Executive Orders 12866 and 13563 and their overall requirement of reducing regulatory burden that might result from these proposed priorities. Please let us know of ways we could reduce potential costs or increase potential benefits while preserving the effective and efficient administration of the Department's programs and activities.

During and after the comment period, you may inspect all public comments about this notice in room 6083, 1990 K Street NW., Washington, DC, between 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The AORC Program provides grants to consortia of institutions of higher education (IHEs) to establish or operate an AORC that promotes postgraduate research, exchanges, and area studies. Funded AORCs provide programs as well as operational support to U.S. scholars conducting overseas research that is vital to understanding the history, culture, economy, languages, and other issues related to the country or region where the AORC is located. AORCs also facilitate networking and collaborations via conferences, teaching opportunities for visiting faculty, and information-sharing through publications and outreach activities.

Program Authority: 20 U.S.C. 1128a.

Proposed Priorities

This notice contains two proposed priorities.

Background

The AORC Program is authorized under title VI, part A, section 609 of the Higher Education Act of 1965, as amended (HEA), which provides that the Department may only award an AORC grant to a consortium of IHEs.

In implementing this program, we have observed that consortia members listed in AORC applications tend primarily to be four year institutions of which few are minority serving institutions (MSIs). We hope to increase the number of MSIs that participate in this program using these priorities. We would also like to encourage more community colleges to participate in the consortia because community colleges are developing international education programs and offering foreign language courses to enhance career training or preparation for transfer to four-year programs.

In 2011, the American Council of Education (ACE) released the Report of the Blue Ribbon Panel of Global Engagement; Strength through Global Leadership and Engagement: U.S. Higher Education in the 21st Century. The report recommended that when U.S. IHEs are assessing whether or not they are doing all they can to prepare students for life after graduation, IHEs examine their activities relative to global experiences and understandings.

We believe that these priorities and definitions support the recommendation in the ACE report because they will promote new institutional partnerships and resource leveraging that will ultimately improve the opportunities for a broader range of students to access area studies, language training, and study abroad, and will increase the number of college graduates who are prepared to work in a globally competent workforce.

For these reasons, we propose Priority 1—Centers that Expand the Diversity of IHEs as Consortium Members. Proposed priority 1 is designed to encourage AORC applications that include a wider spectrum of U.S. IHEs, such as community colleges and MSIs as consortium members.

While proposed priority 1 focuses on the members of the consortium that serve as the AORC, proposed priority 2 focuses on the researchers and faculty served by the AORC.

Under this program, an AORC provides opportunities for U.S. postgraduate researchers and faculty participants to (a) conduct advanced area studies research; (b) network with other U.S. and overseas scholars; (c) participate in conferences hosted by the AORC; and (d) engage in symposia, lectures, and outreach. Engaging in these activities enables participants to enhance their research and expand the international scope of their courses and teaching at their home institutions.

Proposed Priority 2—Projects that Provide Research, Teaching, and Professional Development Opportunities at the Overseas Center to Individuals from Community Colleges and MSIs is intended to increase the number of visiting scholars, researchers, and faculty from these IHEs who participate in the academic, networking, and outreach activities at funded AORCs. We believe that providing opportunities for faculty from these IHEs to participate in professional development activities in overseas learning communities provides an important cultural context that bolsters teaching and research that ultimately strengthens their institutions' international education programs.

Proposed Priority 1—Centers That Expand the Diversity of IHEs as Consortium Members

To meet this priority, an applicant AORC must include community colleges or MSIs, or both as consortium members for the purpose of establishing or operating the AORC.

Proposed Priority 2—Projects That Extend Research, Teaching, and Professional Development Opportunities at the Overseas Center to Individuals From Community Colleges or MSIs, or Both

To meet this priority, the proposed AORC must extend research, teaching, or professional development opportunities to faculty from community colleges or MSIs, or both.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions

Background

The Assistant Secretary for Postsecondary Education seeks to achieve greater diversity in the IHEs and participants in the AORC program by including community colleges and MSIs. These two types of IHEs are not defined in the AORC program legislation. For this reason, we propose the following definitions to apply to AORC competitions:

Proposed Definitions

Community College means—

(A) A junior or community college, as that term is defined in section 312(f) of the HEA (20 U.S.C. 1058(f));

(B) Or an institution of higher education (as defined in section 101 of the HEA (20 U.S.C. 1001)) that awards a significant number of degrees and certificates, that are not—

(i) Bachelor's degrees (or an equivalent); or

(ii) Master's, professional, or other advanced degrees.

Minority-Serving Institution means an institution that is eligible to receive assistance under sections 316 through 320 of part A or under part B of title III or under title V of the HEA.

Final Priorities and Definitions

We will announce the final priorities and definitions in a notice in the Federal Register. We will determine the final priorities and definitions after considering responses to this notice and other information available to the Department. This notice does not preclude us from proposing additional priorities, requirements, definitions, or selection criteria, subject to meeting applicable rulemaking requirements.

Note: This notice does not solicit applications. In any year in which we choose to use one or more of these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are taking this proposed regulatory action only on a reasoned determination that its benefits justify its costs. In choosing among alternative regulatory approaches, we selected those approaches that maximize net benefits. Based on the analysis that follows, the Department believes that these proposed priorities and definitions are consistent with the principles in Executive Order 13563.

We also have determined that this regulatory action would not unduly interfere with State, local, and tribal governments in the exercise of their governmental functions.

In accordance with both Executive orders, the Department has assessed the potential costs and benefits of this regulatory action. The potential costs associated with this regulatory action are those resulting from statutory requirements and those we have determined as necessary for administering the Department's programs and activities.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital Systems at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov.

Specifically, through the advanced search feature at this site, you can limit your search to documents published by the Department.

Dated: May 9, 2012.
Eduardo M. Ochoa,
Assistant Secretary for Postsecondary Education.

[FR Doc. 2012-11682 Filed 5-14-12; 8:45 am]

BILLING CODE 4000-01-P